DEPARTMENT OF LABOR

Employment and Training Administration

Final Finding of No Significant Impact, Gainesville Job Corps Center Proposed Disposal and Reuse of Excess Property

AGENCY: Employment and Training Administration, Department of Labor.

SUMMARY: The Department of Labor's (DOL) Employment and Training Administration, pursuant to the Council on Environmental Quality Regulations implementing procedural provisions of the National Environmental Policy Act (NEPA), gives final notice of the proposed disposal of 47.41 acres of excess property and that this project will not have a significant adverse impact on the environment.

DATES: These findings are effective as of November 30, 2021.

ADDRESSES: For further information contact Derrek Sanks, Department of Labor, 200 Constitution Avenue NW, Room N-4460, Washington, DC 20210; Telephone (202) 693-9972 (this is not a toll free number).

FOR FURTHER INFORMATION CONTACT: Derrek Sanks at (202) 693-9972 (this is not a toll free number).

SUPPLEMENTARY INFORMATION: Pursuant to the Council on Environmental Quality Regulations (40 CFR part 1500-08) implementing procedural provisions of the National Environmental Policy Act (NEPA), in accordance with 29 CFR 11.11(d), gives final notice of the proposed disposal of 47.41 acres of excess property and that this project will not have a significant adverse impact on the environment. A public notice of availability of the draft environmental assessment (EA) was published in the public facing U.S. Department of Labor website (Announcements | U.S. Department of Labor (dol.gov). The review period was for 30 days, ending on August 2, 2021. No public comments were received. No changes to the findings of the EA have been made.

Implementation of the proposed action alternative will not have significant impacts on the human environment. The determination is sustained by the analysis in the EA, agency, and Native American tribal consultation, the inclusion and consideration of public review, and the capability of mitigations to reduce or avoid impacts. Any adverse environmental effects that could occur are no more than minor in intensity, duration and context and less-than-significant. As described in the EA, there are no highly uncertain or controversial impacts, unique or unknown risks, significant cumulative effects, or elements of precedence. There are no previous, planned, or implemented actions, which, in combination with the proposed action alternative, would have significant effects on the human environment. Requirements of NEPA have been satisfied, and preparation of an Environmental Impact Statement is not required.

Angela Hanks,
Acting Assistant Secretary for Employment and Training, Labor.

[FR Doc. 2021-26054 Filed 11-29-21; 8:45 am]

BILLING CODE 4510-FN-P